DEPARTMENT OF THE TREASURY

United States Mint

Pricing for the 2015 American Eagle One Ounce Silver Proof Coin

AGENCY: United States Mint, Department of the Treasury.

ACTION: Notice.

SUMMARY: The United States Mint is announcing the price of the 2015 American Eagle One Ounce Silver Proof Coin. The price of the American Eagle One Ounce Silver Proof Coin will be lowered from $52.95 to $48.95.

FOR FURTHER INFORMATION CONTACT: J. Marc Landry, Acting Associate Director for Sales and Marketing; United States Mint; 801 9th Street NW., Washington, DC 20220; or call 202-354-7500.

Authority: 31 U.S.C. 5111, 5112 & 9701.

Dated: December 15, 2014.
Richard A. Peterson,
Deputy Director, United States Mint.

[FR Doc. 2014-29712 Filed 12-18-14; 8:45 am]

BILLING CODE 4810-37-P